DEPARTMENT OF AGRICULTURE

Food and Nutrition Service

RIN 0584-AC87

Food Stamp Program: Maximum Allotments for Alaska, Hawaii, Guam, and the Virgin Islands

AGENCY: Food and Nutrition Service, USDA.

ACTION: General notice.

SUMMARY: By this notice, the Department of Agriculture is updating for Fiscal Year 2000 the maximum food stamp allotments for participating households in Alaska, Hawaii, Guam, and the Virgin Islands. These annual adjustments, required by law, take into account changes in the cost of food and statutory adjustments since the amounts were last calculated.

EFFECTIVE DATE: This notice is effective May 19, 2000.

FOR FURTHER INFORMATION CONTACT: Margaret Werts Batko, Assistant Branch Chief, Certification Policy Branch, Program Development Division, Food and Nutrition Service, U.S. Department of Agriculture, 3101 Park Center Drive, Alexandria, VA 22302, or telephone at (703) 305-2516. The e-mail address is Margaret.Batko@FNS.USDA.GOV.

SUPPLEMENTARY INFORMATION:

Implementation

As required by Section 3(o) of the Food Stamp Act of 1977 (the Act), 7 U.S.C. 2012(o), State agencies should have implemented this action on October 1, 1999, based on advance notice of the new amounts. As required by regulations published at 47 FR 46485 (October 19, 1982), annual statutory adjustments to the maximum allotment levels and income eligibility standards are issued by General Notices published in the Federal Register and not through rulemaking proceedings.

Executive Order 12866

This notice has been determined to be not significant for purposes of Executive Order 12866 and therefore has not been reviewed by the Office of Management and Budget (OMB).

Executive Order 12372

The Food Stamp Program is listed in the Catalog of Federal Domestic Assistance under No. 10.551. For the reasons set forth in the Final rule and related notice to 7 CFR part 3015, subpart V (48 FR 29916, June 24, 1983), this program is excluded from the scope of Executive Order No. 12372 which requires intergovernmental consultation with State and local officials.

Regulatory Flexibility Act

The Under Secretary for Food, Nutrition, and Consumer Services has certified that this action will not have a significant economic impact and will not have an impact on a substantial number of small entities. The action will increase the amount of money spent on food through increases in food stamp benefits. However, this money will be distributed among all eligible food stamp vendors, so the effect on any one vendor will not be significant.

Paperwork Reduction Act

This action does not contain reporting or record keeping requirements subject to review by OMB pursuant to the provisions of the Paperwork Reduction Act of 1995, 44 U.S.C. 3507.

Unfunded Mandate Reform Act of 1995 (UMRA)

Title II of UMRA establishes requirements for Federal agencies to assess the effects of their regulatory actions on State, local, and tribal governments and the private sector. Under Section 202 of the UMRA, FNS generally must prepare a written statement, including a cost-benefit analysis, for proposed and final rules with “Federal mandates” that may result in expenditures to State, local, or tribal governments, in the aggregate, or to the private sector, of $100 million or more in any one year. When such a statement is needed for a rule, section 205 of the UMRA generally requires FNS to identify and consider a reasonable number of regulatory alternatives and adopt the least costly, more cost-effective or least burdensome alternative that achieves the objectives of the rule.

This notice contains no Federal mandates (under the regulatory provisions of Title II of the UMRA) for State, local, and tribal governments or the private sector of $100 million or more in any one year. Thus today's rule is not subject to the requirements of Sections 202 and 205 of the UMRA.

Background

Thrifty Food Plan (TFP) and allotments. As provided for in Section 3(o) of the Act, 7 U.S.C. 2012(o), the TFP is a plan for the consumption of foods of different types (food groups) that families might use to provide nutritious meals and snacks for family members. The plan provides for a diet required to feed a family of four persons consisting of a man and woman aged 20 to 50, a child 6 to 8 and a child 9 to 11. The cost of the TFP is adjusted monthly to reflect changes in the costs of the food groups.

The TFPs for Alaska and Hawaii are based on an adjusted average for the six-month period that ends with June 1999. Since the Bureau of Labor Statistics (the source of food price data) no longer publishes monthly information to compute Alaska and Hawaii TFPs, the adjusted average provides a proxy for actual June 1999 TFP costs. The adjusted average is equal to January-June 1999 TFP costs for Alaska and Hawaii increased by the average percentage difference between the cost of the TFP in Alaska and Hawaii in June and the January-June average in 1986 (a 1.53 percent increase over January-June costs in Alaska and 1.82 percent increase in Hawaii).

For the period January through June 1999, the average cost of the TFP was $516.20 in Alaska, and $653.10 in Hawaii. The proxy in Alaska for actual June 1999 TFP costs was $524.09. This proxy is multiplied by three separate adjustment factors to create three TFPs for Urban Alaska, Rural I Alaska, and Rural II Alaska. The proxy in Hawaii for actual June 1999 TFP costs was $664.98. The June 1999 cost of the TFP was $628.80 in Guam and $548.50 in the Virgin Islands.

The maximum food stamp allotment is paid to households that have no net income. For households with some type of income, their allotments are determined by reducing the maximum allotment for their household size by 30 percent of the household's net income in accordance with Section 8 (a) of the Act, 7 U.S.C. 2017 (a). To obtain the maximum food stamp allotment for each household size, the TFP costs are divided by four, multiplied by the appropriate household size and economy of scale factor, and the final result rounded down to the nearest dollar.

Pursuant to Section 3 (o)(3) of the Act, maximum food stamp benefits for Guam and the Virgin Islands cannot exceed those in the 50 States and the District of Columbia, so they are based upon either the lower of their respective TFPs or the TFP for rural II Alaska.

Maximum Allotment Amounts ¹—October 1999 as Adjusted.
Household size | Urban Alaska | Rural I Alaska | Rural II Alaska | Hawaii | Guam² | Virgin Islands²
1 | $158 | $202 | $245 | $199 | $188 | $164
2 | 290 | 370 | 450 | 365 | 345 | 301
3 | 415 | 530 | 645 | 523 | 495 | 431
4 | 528 | 673 | 819 | 664 | 628 | 548
5 | 627 | 799 | 973 | 789 | 746 | 651
6 | 752 | 959 | 1168 | 947 | 896 | 781
7 | 831 | 1060 | 1291 | 1047 | 990 | 863
8 | 950 | 1212 | 1475 | 1196 | 1131 | 987
Each Additional Member | +119 | +152 | +184 | +150 | +141 | +123
¹ Adjusted to reflect the cost of food in June, adjustments for each household size, economies of scale, and 100 percent of the TFP and rounding.
² Adjusted to reflect changes in the cost of food in the 48 States and D.C., which correlate with price changes in these areas. Maximum allotments in these areas cannot exceed those in Rural II Alaska.

Dated: February 16, 2000.
Samuel Chambers, Jr.,
Administrator, Food and Nutrition Service.

[FR Doc. 00-12654 Filed 5-18-00; 8:45 am]

BILLING CODE 3410-30-P